DEPARTMENT OF JUSTICE

United States Parole Commission

Public Announcement; Pursuant to the Government in the Sunshine Act (Public Law 94-409) [5 U.S.C. 552b]

TIME AND DATE: 10 a.m., Thursday, January 17, 2008.

PLACE: 5550 Friendship Blvd., Fourth Floor, Chevy Chase, MD 20815.

STATUS: Open.

MATTERS TO BE CONSIDERED: The following matters have been placed on the agenda for the open Parole Commission meeting:

1. Approval of Minutes of October 2007 Quarterly Business Meeting.

2. Reports from the Chairman, Commissioners, Chief of Staff, and Section Administrators.

3. Rule changes for Transfer Treaty Determinations under 28 CFR 2.68.

AGENCY CONTACT: Thomas W. Hutchison, Chief of Staff, United States Parole Commission, (301) 492-5990.

Dated: January 10, 2008.
Rockne J. Chickinell,
General Counsel, U.S. Parole Commission.

[FR Doc. 08-128 Filed 1-11-08; 3:20 pm]

BILLING CODE 4410-31-M